DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Long Island Rail Road (Waiver Petition Docket Number FRA-2004-18854)

The Long Island Rail Road (LIRR) seeks a waiver of compliance from certain provisions of the Railroad Locomotive Safety Standards, 49 CFR part 229. Specifically, LIRR requests relief from the requirements of 49 CFR 229.27(a)(2) Annual Tests and 49 CFR 229.29(a) Biennial Tests, applicable to a control group of five EMD DE/DM30-AC locomotives equipped with Computer Controlled Brake I (CCB I) type brake equipment furnished by New York Air Brake Corporation (NYAB) of Watertown, New York.

The five locomotives designated for the control group will be Model EMD DE/DM30-AC, built by General Motor's Electro Motive Division (EMD), accepted new by LIRR in 1999, and equipped with NYAB's CCB I brake equipment. The LIRR currently operates a fleet of forty six (46) of this model type(s) and configured locomotives. The current CCB I periodic brake equipment maintenance intervals are 1840 days (five years) in accordance with the FRA Docket Number 2000-7367.

In October 2003, CCB I, from a randomly selected locomotive at the end of a five-year COT&S interval, was removed and sent to New York Air Brake for tests and a tear-down inspection. A test report of this equipment was submitted to the FRA from NYAB to comply with Section 5.1.6 of ABT-3164 as related to the CCB I product five year COT&S 2000-7367 waiver. In summary of that report, New York Air Brake noted that the LIRR's CCB I air brake equipment was fully serviceable at five years of age.

As a result of the NYAB report, the LIRR is seeking relief on the 1840 day (5 year) COT&S on five locomotive described as the “control group of locomotives”. The control group of locomotives will be utilized as a test to determine CCB I brake condition when the maintenance cycle is extended past five-year maintenance interval.

The control group of five locomotives will all have their COT&S extended past the 1840 (5 year) COT&S with the following proposed schedule: one locomotive to 2208 days (6 years), two locomotives to 2576 days (7 years), and the two remaining locomotives to 2944 days (8 years). During the testing period for the control group, the remaining locomotives in the LIRR fleet will continue regularly scheduled periodic maintenance of CCB I equipment at the established 1840-day interval.

Part 229.27(a)(2) requires that, “Brake cylinder relay valve portions, main reservoir safety valves, brake pipe vent valve portions, feed and reducing valve portions in the air brake system (including related dirt collectors and filters) shall be cleaned, repaired, and tested” at intervals that do not exceed 368 calendar days. Part 229.29(a) requires in part that “* * * all valves, valve portions, MU locomotive brake cylinders and electric-pneumatic master controllers in the air brake system (including related dirt collectors and filters) shall be cleaned, repaired, and tested at intervals that do not exceed 736 calendar days.

LIRR requests these provisions be temporarily waived on the “control group of locomotives” to allow them to conduct a long term test program designed to show that NYAB's electronic air brake technology has sufficiently improved overall system reliability and safety to a point where it is now possible to move toward a component repair as required, performance based COT&S criterion similar in scope to that outlined in a previous waiver granted on September 1, 2000 to CSX Transportation in Docket FRA-1999-6252. This referenced waiver covers CSXT locomotives utilizing NYAB's Computer Controlled Brake (CCB) equipment, with the intent of moving to a component repair as required, performance-based COT&S criterion.

As part of this waiver request, LIRR recommends that a detailed test plan, necessary for properly tracking and documenting the results, be jointly developed between LIRR, NYAB, and FRA. At the completion of the test program, LIRR further requests that the FRA conduct a formal review of the results relative to the objective of moving toward a “performance-based COT&S” criterion. In addition, the LIRR and NYAB are currently in the process of establishing test plans to specify the on-locomotive tests and tear-down inspection procedures for the CCB I components from the “control group of locomotives”. The plans will be submitted to the FRA for approval when they are complete. LIRR will also submit to the FRA the locomotive road numbers that will be representative of the locomotives that will be comprised in the “control group of locomotives”.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2004-18854) and must be submitted to the Docket Clerk, DOT Docket Management Facility, Room PL-401 (Plaza Level), 400 Seventh Street, SW., Washington, DC 20590. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC, on October 20, 2004.
Grady C. Cothen, Jr.,
Acting Associate Administrator for Safety.

[FR Doc. 04-24062 Filed 10-26-04; 8:45 am]

BILLING CODE 4910-06-P